DEPARTMENT OF COMMERCE

National Oceanic and Atmospheric Administration

RIN 0648-XA420

Endangered and Threatened Species; Take of Anadromous Fish

AGENCY: National Marine Fisheries Service (NMFS), National Oceanic and Atmospheric Administration (NOAA), Commerce.

ACTION: Applications for two new scientific research permits.

SUMMARY: Notice is hereby given that NMFS has received two scientific research permit application requests relating to Pacific salmon. The proposed research would increase knowledge of species listed under the Endangered Species Act (ESA) and help guide management and conservation efforts.

DATES: Comments or requests for a public hearing on the applications must be received at the appropriate address or fax number (see ADDRESSES) no later than 5 p.m. Pacific standard time on June 9, 2011.

ADDRESSES: Written comments on the applications should be sent to the Protected Resources Division, NMFS, 1201 NE. Lloyd Blvd., Suite 1100, Portland, OR 97232-1274. Comments may also be sent via fax to 503-230-5441 or by e-mail to nmfs.nwr.apps@noaa.gov. The applications may be viewed online at: https://apps.nmfs.noaa.gov/preview/preview_open_for_comment.cfm. Permit application instructions are available from the address above, or online at https://apps.nmfs.noaa.gov.

FOR FURTHER INFORMATION CONTACT: Garth Griffin, Portland, OR, ph.: 503-231-2005, fax: 503-230-5441, e-mail: Garth.Griffin@noaa.gov.

SUPPLEMENTARY INFORMATION:

Species Covered in This Notice

The following listed species are covered in this notice:

Chinook salmon (Oncorhynchus tshawytscha): Threatened upper Willamette River (UWR); threatened lower Columbia River (LCR).

Steelhead (O. mykiss): Threatened UWR, threatened LCR.

Chum salmon (O. nerka): Threatened Columbia River CR.

Coho salmon (O. kisutch): Threatened LCR.

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 15611

The Washington Department of Fish and Wildlife (WDFW) is seeking a 5-year permit to take adult LCR Chinook salmon, LCR steelhead, LCR coho salmon, and CR chum salmon while operating a fish collection facility on the North Fork Toutle River in Washington State. The fish collection facility is located at river mile 47.5, approximately 1.3 miles downstream from the Mount St. Helens Sediment Retention Structure. The purpose of the project is to trap and haul salmon and steelhead around the sediment retention structure. The WDFW would also collect scientific information and tag a portion of the fish to monitor migration patterns and spawning success. The activities' primary benefit would be to allow listed salmon and steelhead to spawn in historically accessible habitat upstream of the sediment retention structure. Also, researchers would collect information that would increase our understanding of the various species' spawning habits. The WDFW proposes to operate the trap several days a week during the species' upstream migration. Captured fish would be transported in a tanker truck and released upstream of the sediment retention structure. The WDFW does not intend to kill any fish being captured but some may die as an unintentional result of the activities.

Permit 16290

The Oregon Department of Fish and Wildlife (ODFW) is seeking a 5-year permit to take listed salmonids while conducting research on the Oregon chub. The purpose of the research is to study the distribution, abundance, and factors limiting the recovery of Oregon chub. The ODFW would capture, handle, and release juvenile UWR Chinook salmon, UWR steelhead, LCR Chinook salmon, LCR steelhead, LCR coho salmon, and CR chum salmon while conducting the research. The Oregon chub is endemic to the Willamette Valley of Oregon and the habitats it depends on are also important to salmonids. Research on the Oregon chub would benefit listed salmonids by helping managers recover habitats the species share. The ODFW would use boat electrofishing equipment, minnow traps, beach seines, dip nets, hoop nets, and fyke nets to capture juvenile fish. Researchers would avoid contact with adult fish. If listed salmonids are captured during the research they would be released immediately. The researchers do not expect to kill any listed salmonids but a small number may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 5, 2011.
Angela Somma,
Chief, Endangered Species Division, Office of Protected Resources, National Marine Fisheries Service.

[FR Doc. 2011-11451 Filed 5-9-11; 8:45 am]

BILLING CODE 3510-22-P